DEPARTMENT OF TRANSPORTATION

National Highway Traffic Safety Administration

[Docket No. NHTSA-2014-0107; Notice 1]

Continental Tire the Americas, LLC, Receipt of Petition for Decision of Inconsequential Noncompliance

AGENCY: National Highway Traffic Safety Administration (NHTSA), Department of Transportation (DOT).

ACTION: Receipt of Petition.

SUMMARY: Continental Tire the Americas, LLC (CTA) has determined that certain Continental General Altimax RT43 replacement tires do not fully comply with paragraphs S5.5(c) and (f) of Federal Motor Vehicle Safety Standard (FMVSS) No. 139, New Pneumatic Radial Tires for Light Vehicles. CTA has filed an appropriate report dated August 19, 2014, pursuant to 49 CFR part 573, Defect and Noncompliance Responsibility and Reports.

DATES: The closing date for comments on the petition is December 22, 2014.

ADDRESSES: Interested persons are invited to submit written data, views, and arguments on this petition. Comments must refer to the docket and notice number cited at the beginning of this notice and submitted by any of the following methods:

• Mail: Send comments by mail addressed to: U.S. Department of Transportation, Docket Operations, M-30, West Building Ground Floor, Room W12-140, 1200 New Jersey Avenue SE., Washington, DC 20590.

• Hand Deliver: Deliver comments by hand to: U.S. Department of Transportation, Docket Operations, M-30, West Building Ground Floor, Room W12-140, 1200 New Jersey Avenue SE., Washington, DC 20590. The Docket Section is open on weekdays from 10 a.m. to 5 p.m. except Federal Holidays.

• Electronically: Submit comments electronically by: logging onto the Federal Docket Management System (FDMS) Web site at http://www.regulations.gov/. Follow the online instructions for submitting comments. Comments may also be faxed to (202) 493-2251.

Comments must be written in the English language, and be no greater than 15 pages in length, although there is no limit to the length of necessary attachments to the comments. If comments are submitted in hard copy form, please ensure that two copies are provided. If you wish to receive confirmation that your comments were received, please enclose a stamped, self-addressed postcard with the comments. Note that all comments received will be posted without change to http://www.regulations.gov, including any personal information provided.

Documents submitted to a docket may be viewed by anyone at the address and times given above. The documents may also be viewed on the Internet at http://www.regulations.gov by following the online instructions for accessing the dockets. DOT's complete Privacy Act Statement is available for review in the Federal Register published on April 11, 2000, (65 FR 19477-78).

The petition, supporting materials, and all comments received before the close of business on the closing date indicated below will be filed and will be considered. All comments and supporting materials received after the closing date will also be filed and will be considered to the extent possible. When the petition is granted or denied, notice of the decision will be published in the Federal Register pursuant to the authority indicated below.

Supplementary Information: I. CTA's Petition: Pursuant to 49 U.S.C. 30118(d) and 30120(h) (see implementing rule at 49 CFR part 556), CTA submitted a petition for an exemption from the notification and remedy requirements of 49 U.S.C. Chapter 301 on the basis that this noncompliance is inconsequential to motor vehicle safety.

This notice of receipt of CTA's petition is published under 49 U.S.C. 30118 and 30120 and does not represent any agency decision or other exercise of judgment concerning the merits of the petition.

II. Tires Involved: Affected are approximately 814 replacement tires that were manufactured for sale in the United States and Canada. CTA states that 181 of the replacement tires are still under their control. CTA further identified the tires as General Altimax RT43 brand 195/65R15 91T passenger car tires and General Altimax RT43 brand 195/65R15 91H passenger car tires.

III. Noncompliance: CTA explains that the noncompliance is that due to a mold labeling error the sidewall markings on both tires incorrectly describe the maximum inflation pressure as required by paragraph 5.5 (c) and the actual number plies in the tread area of the tires as required by paragraph S5.5(f) of FMVSS No. 139. Specifically, the 195/65R15 91T General Altimax RT43 tires were manufactured with “Max Inflation Pressure: 350 kPa (51 PSI); Tread: 1 Polyester + 2 Steel + 2 Polyamide.” The correct labeling and stamping should have been “Max Inflation Pressure: 300 kPa (44 PSI); Tread: 1 Polyester + 2 Steel + 1 Polyamide.” The 195/65R15 91H General Altimax RT43 tires were manufactured with “Max Inflation Pressure 300 kPa (44 PSI); Tread: 1 Polyester + 2 Steel + 1 Polyamide.” The correct labeling and stamping should have been “Max Inflation Pressure 350 kPa (51 PSI); Tread: 1 Polyester + 2 Steel + 2 Polyamide.”

V. Rule Text: Paragraph S5.5(c) and (f) of FMVSS No. 139 requires in pertinent part:

S5.5 Tire Markings. Except as specified in paragraphs (a) through (i) of S5.5, each tire must be marked on each sidewall with the information specified in S5.5(a) through (d) and on one sidewall with the information specified in S5.5(e) through (i) according to the phase-in schedule specified in S7 of this standard . . .

(C) The maximum permissible inflation pressure, subject to the limitation of S5.5.4 through S5.5.6 of this standard;

(f) The actual number of plies in the sidewall, and the actual number of plies in the tread area, if different;

V. Summary of CTA's Analyses: CTA stated its belief that the subject noncompliance is inconsequential to motor vehicle safety for the following reasons:

(A) Number of Plies: CTA believes that the mislabeling of the number of plies on the subject tires has no impact on the operational performance of the subject tires or on the safety of vehicles on which these tires are to be mounted. CTA states that the subject tires also meet or exceed all of the performance requirements specified by FMVSS No. 139.

(B) Max Inflation Pressure: CTA believes that the choice of the maximum inflation pressure level is the decision of the tire manufacturer, as long as it is in compliance with the established values under FMVSS No. 139 paragraph S5.5.4. CTA also believes that the maximum inflation pressure values of 350 kPa and 300 kPa on both tires are acceptable choices and stated that both tires can accommodate a maximum pressure of 350 kPa (51 PSI.)

(C) Overloading: CTA believes that the use of either of the maximum inflation pressures displayed on the subject tire sidewalls as the source of information for the recommended inflation pressure will not result in an overloading of the tires or their load carrying capacity. CTA says this is because both values (300 kPa and 350 kPa) are above the inflation pressure of 250 kPa (36 PSI) at which the tire's maximum load capacity is defined by the European Tyre and Rim Technical Organisation (ETRTO) standard.

(C) Strength: CTA stated that each standard load tire has a specified tire strength requirement. Which is defined in paragraph S6.5 of FMVSS No. 139 (and paragraph S5.3 of FMVSS No. 109) and must be met whether the selected maximum permissible pressure marking value is 240 kPa (35 PSI), 300 kPa (44 PSI), or 350 kPa (51 PSI). CTA believes that both of the subject tires meet this requirement.

(D) Incidents: CTA stated that they are not aware of any crashes, injuries, customer complaints, or field reports associated with the subject noncompliance.

(C) Previous Rulings: CTA made mention that NHTSA has previously granted tire companies inconsequentiality exemptions relating to errors in sidewall markings.

CTA has additionally informed NHTSA that it has corrected the noncompliance so that all future production of the subject tires comply with FMVSS No. 139.

In summation, CTA believes that the described noncompliance of the subject tires is inconsequential to motor vehicle safety, and that its petition, to exempt CTA from providing recall notification of noncompliance as required by 49 U.S.C. 30118 and remedying the recall noncompliance as required by 49 U.S.C. 30120 should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject tires that CTA no longer controlled at the time it determined that the noncompliance existed. However, any decision on this petition does not relieve equipment distributors and dealers of the prohibitions on the sale, offer for sale, or introduction or delivery for introduction into interstate commerce of the noncompliant tires under their control after CTA notified them that the subject noncompliance existed.

Authority: 49 U.S.C. 30118, 30120: delegations of authority at 49 CFR 1.95 and 501.8.

Jeffrey M. Giuseppe,
Acting Director, Office of Vehicle Safety Compliance.

[FR Doc. 2014-27585 Filed 11-20-14; 8:45 am]

BILLING CODE 4910-59-P